DEPARTMENT OF THE INTERIOR

National Park Service

[NPS-WASO-NAGPRA-NPS0034523; PPWOCRADN0-PCU00RP14.R50000]

Notice of Inventory Completion Amendment: Peabody Museum of Archaeology and Ethnology, Harvard University, Cambridge, MA

AGENCY: National Park Service, Interior.

ACTION: Notice; amendment.

SUMMARY: In accordance with the Native American Graves Protection and Repatriation Act (NAGPRA), the Peabody Museum of Archaeology and Ethnology, Harvard University has amended a Notice of Inventory Completion published in the Federal Register on December 21, 2018. This notice amends the number of associated funerary objects in a collection removed from Williamson County, TN.

DATES: Disposition of the human remains and associated funerary objects in this notice may occur on or after October 17, 2022.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the Peabody Museum of Archaeology and Ethnology, Harvard University. The National Park Service is not responsible for the determinations in this notice. Additional information on the amendments and determinations in this notice, including the results of consultation, can be found in the inventory or related records held by the Peabody Museum of Archaeology and Ethnology, Harvard University.

Amendment

This notice amends the determinations published in a Notice of Inventory Completion in the Federal Register (83 FR 65741-65743, December 21, 2018). Disposition of the items in the original Notice of Inventory Completion has not occurred. This notice amends the number of associated funerary objects which were not listed in the original notice. A total of 475 associated funerary objects from Williamson County, TN are reported here.

Associated Funerary Objects
Site | Original No. | Amended No. | Amended description
Gray's Farm (40WM11) in Williamson County, TN | Not reported | 127 | 12 bone pins; one sharpening stone; two ceramic bottles; one ceramic jar; three ceramic effigy bowls; three shell spoons; one strand of shell beads; 95 shell beads; three bifaces; two faunal bone fragments; one shell fragment; two shell gorgets; and one projectile point.
Arnold Site (40WM5) in Williamson County, TN | Not reported | 27 | One ceramic disk; five ceramic bowls; two ceramic effigy bowls; one ceramic bottle; two chunkey stones; two carved shell ornaments; one shell spoon; one stone ear plug or bead; and 12 faunal bone and teeth fragments.
Glass Mounds Site (40WM3) in Williamson County, TN | Not reported | 10 | One faunal bone fragment; three shell beads; three mica pieces; two copper panpipe casings; and one copper axe.
Unknown location in Williamson County, TN | Not reported | 0 | No associated funerary objects are present.
Brentwood Library/Dr Jarman's Site (40WM210) (1882) in Williamson County, TN | Not reported | 281 | One biface blade; one bone awl; one bone hairpin; two ceramic beads; one ceramic bottle; 34 ceramic bowls or bowl fragments; one ceramic effigy bottle; five ceramic effigy bowls or bowl fragments; one ceramic effigy vessel; four ceramic jar or jar fragments; one lot of ceramic jar and bag of jar sherds; two ceramic pipe stems; 86 ceramic sherds; six ceramic vessel or vessel fragments; seven miniature ceramic vessel or vessel fragments; 12 charcoal and debitage; one daub; seven debitage; one discoidal; 32 faunal bones; one ground stone fragment; one possible scraper; two projectile points; three rock fragments; 12 shell and bone fragments; 45 shell beads; one shell gorget; six shell or shell fragments; one stone axe; one stone ear plug/bead; one worked faunal bone; and one worked shell.
Brentwood Library/Dr Jarman's Site (40WM210) (1883) in Williamson County, TN | Not reported | 30 | Two ceramic bowls; one effigy bowl; one effigy jar; four shell fragments; two stone fragments; two stone flakes; one discoidal stone; and 17 pieces of charcoal.
Brentwood in Williamson County, TN | Not reported | 0 | No associated funerary artifacts are present.

Determinations (as Amended)

Pursuant to NAGPRA and its implementing regulations, and after consultation with the appropriate Indian Tribes, the Peabody Museum of Archaeology and Ethnology, Harvard University has determined that:

• The human remains represent the physical remains of 215 individuals of Native American ancestry.

• The 475 objects are reasonably believed to have been placed with or near individual human remains at the time of death or later as part of the death rite or ceremony.

• No relationship of shared group identity can be reasonably traced between the human remains and associated funerary objects and any Indian Tribe.

• The human remains and associated funerary objects were removed from the aboriginal land of the Cherokee Nation; Eastern Band of Cherokee Indians; and the United Keetoowah Band of Cherokee Indians in Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after October 17, 2022. If competing requests for disposition are received, the Peabody Museum of Archaeology and Ethnology, Harvard University must determine the most appropriate requestor prior to disposition. Requests for joint disposition of the human remains and associated funerary objects are considered a single request and not competing requests. The Peabody Museum of Archaeology and Ethnology, Harvard University is responsible for sending a copy of this notice to the Indian Tribes identified in this notice.

Authority: Native American Graves Protection and Repatriation Act, 25 U.S.C. 3003, and the implementing regulations, 43 CFR 10.9, 10.11, and 10.13.

Dated: September 7, 2022.
Melanie O'Brien,
Manager, National NAGPRA Program.

[FR Doc. 2022-19976 Filed 9-14-22; 8:45 am]

BILLING CODE 4312-52-P